DEPARTMENT OF AGRICULTURE

National Agricultural Statistics Service

Notice of Intent To Suspend Portions of a Currently Approved Information Collection

AGENCY: National Agricultural Statistics Service, USDA.

ACTION: Notice of suspension of data collection and publication.

SUMMARY: This notice announces the intention of the National Agricultural Statistics Service (NASS) to suspend portions of a currently approved information collection, the Agriculture Resource Management, Chemical Use, and Postharvest Chemical Use Surveys. The Fruit Chemical Use Survey and Postharvest Chemical Use Survey are being suspended, along with their associated publications.

FOR FURTHER INFORMATION CONTACT: Joseph T. Reilly, Associate Administrator, National Agricultural Statistics Service, U.S. Department of Agriculture, (202) 720-4333.

SUPPLEMENTARY INFORMATION: Title: Agriculture Resource Management, Chemical Use, and Postharvest Chemical Use Surveys.

OMB Control Number: 0535-0218.

Expiration Date of Approval: September 30, 2008.

Type of Request: To suspend portions of a currently approved information collection.

Abstract: One of the primary objectives of the National Agricultural Statistics Service is to provide high quality and timely estimates about the nation's food supply and environment. In the Fruit Chemical Use Survey and the Postharvest Chemical Use Survey data are collected regarding chemical usage on fruit and the types and amounts of pesticides used on selected commodities after harvest and before shipping to the consumer. Information from these data collection efforts is used extensively by government agencies in planning, farm policy analysis, scientific research, and program administration. NASS will suspend Fruit Chemical Use and Postharvest Chemical Use data collection as of May 2, 2007. NASS will not publish the two associated reports: The Agricultural Chemical Usage Postharvest Applications report previously scheduled for March 26, 2008 and the Agricultural Chemical Usage 2007 Fruit Summary report scheduled for July 30, 2008. The Agriculture Resource Management surveys portion of the information collection will continue unaffected.

Authority: These data are collected under authority of 7 U.S.C. 2204(a). Individually identifiable data collected under this authority are governed by Section 1770 of the Food Security Act of 1985, 7 U.S.C. 2276, which requires USDA to afford strict confidentiality to non-aggregated data provided by respondents.

Estimate of Burden: There will be no further reporting burden for the annual collection of Postharvest Chemical Use or the biennial collection of Fruit Chemical Use data.

Signed at Washington, DC, April 4, 2007.
Joseph T. Reilly,
Associate Administrator.

[FR Doc. E7-8382 Filed 5-1-07; 8:45 am]

BILLING CODE 3410-20-P